DEPARTMENT OF HEALTH AND HUMAN SERVICES

Centers for Disease Control and Prevention

Notice of Award of Single-Source Cooperative Agreements To Fund the Council of Medical Specialty Societies (CMSS) and the Society for Post-Acute and Long-Term Care Medicine (AMDA)

AGENCY: Centers for Disease Control and Prevention (CDC), Department of Health and Human Services (HHS).

ACTION: Notice.

SUMMARY: The Centers for Disease Control and Prevention (CDC), located within the Department of Health and Human Services (HHS) announces the award of approximately $26,000,000 in COVID-19 funding to the Council of Medical Specialty Societies (CMSS) and the Society for Post-Acute and Long-Term Care Medicine (AMDA) to address the need to incorporate adult vaccination into the standard of care for subspecialty providers, including occupational health and long term care (LTC), and improve adult vaccination rates.

DATES: The period for this award will be September 30, 2021 through September 29, 2026.

FOR FURTHER INFORMATION CONTACT: Amy Parker Fiebelkorn, MSN, MPH CAPT, U.S. Public Health Services, National Center for Immunization and Respiratory Diseases, Centers for Disease Control and Prevention, 1600 Clifton Road NE, MS-H24-8, Atlanta, GA 30329, Telephone: 800-232-6348, Email: dez8@cdc.gov.

SUPPLEMENTARY INFORMATION: The single-source awards will increase COVID-19, influenza, and routine adult vaccination coverage in adults with chronic medical conditions, in occupational health clinics, and in adults working and residing in long-term care (LTC) facilities. The Council of Medical Specialty Societies (CMSS) and the Society for Post-Acute and Long-Term Care Medicine (AMDA) will incorporate adult vaccination into the standard of care for subspecialty providers (including occupational health and LTC). CMSS will focus on activities leading to adoption of the Standards for Adult Immunization Practice in its 45 societies, and AMDA will focus on the same with its affiliate organization, the Foundation for Post-Acute and Long-Term Care Medicine. CMSS and AMDA will develop/update vaccine policy statements, develop/promote continuing education on adult immunization for their membership, and award funds to up to 7 subspecialty societies (for CMSS) and to the Foundation (for AMDA) to systematize routine delivery of adult immunizations. The funded subrecipients (i.e., CMSS subspecialty societies and AMDA's Foundation) should also fund staff at the national level and in regional chapters to update vaccination policies and encourage use of adult vaccinations as quality measures. Funded CMSS subspecialty societies and AMDA's Foundation should also contract with 7-10 healthcare systems or 7-10 LTC chains each, respectively, to implement adult immunization quality improvement interventions.

Summary of the Award

Recipient: Council of Medical Specialty Societies (CMSS) and the Society for Post-Acute and Long-Term Care Medicine (AMDA).

Purpose of the Award: The purpose of these awards is to increase COVID-19, influenza, and routine vaccines in adults with chronic medical conditions (e.g., COPD, asthma, diabetes, heart disease, cancer, and renal disease), increase workplace vaccination (occupational health settings), and increase vaccination among adults working and residing in LTCFs through implementation of immunization quality improvement interventions. CMSS will focus on activities leading to adoption of the Standards for Adult Immunization Practice in its 45 societies. AMDA will focus on the same with its affiliate organization, the Foundation for Post-Acute and Long-Term Care Medicine. CMSS and AMDA will develop/update vaccine policy statements, develop/promote continuing education on adult immunization for their membership, and award funds to up to 7 subspecialty societies (for CMSS) and to the Foundation (for AMDA) to systematize routine delivery of adult immunizations. CMSS-funded subspecialty societies and AMDA's Foundation should fund staff at the national level and in regional chapters to update vaccination policies and encourage use of adult vaccinations as quality measures. CMSS subspecialty societies and AMDA's Foundation should also contract with 7-10 healthcare systems or 7-10 LTC chains each, respectively, to implement adult immunization quality improvement interventions.

Amount of Award: $26,000,000 in Federal Fiscal Year (FFY) 2021 funds, and an estimated total of $66,000,000 over the five-year period of performance.

Period of Performance: September 30, 2021 through September 29, 2026.

Dated: August 30, 2021.
Joseph I. Hungate III,
Deputy Director, Office of Financial Resources, Office of the Chief Operating Officer, Centers for Disease Control and Prevention.

[FR Doc. 2021-19050 Filed 9-2-21; 8:45 am]

BILLING CODE 4163-18-P